FEDERAL EMERGENCY MANAGEMENT AGENCY

Agency Information Collection Activities: Proposed Collection; Comment Request

ACTION: Notice and request for comments.

SUMMARY: The Federal Emergency Management Agency, as part of its continuing effort to reduce paperwork and respondent burden, invites the general public and other Federal agencies to take this opportunity to comment on proposed continuing information collections. In accordance with the Paperwork Reduction Act of 1995 (44 U.S.C. 3506(c)(2)(A)), this notice seeks comments concerning data used to coordinate extracurricular training activities at the National Emergency Training Center (NETC).

SUPPLEMENTARY INFORMATION: In accordance with FEMA Instruction NETC 6900.1, Use of Facilities and Grounds at NETC, special groups, who are defined as Federal Government personnel or groups including those members of FEMA not duty stationed at NETC and groups or organizations sanctioned or sponsored by the Emergency Management Institute, U.S. Fire Administration, or other NETC occupant elements authorized to use the facility for training, meetings, conferences, etc., on a space available basis. Special groups may request authorization to use the recreational facilities, and public areas by submitting a FEMA Form 75-10 Request for Housing Accommodations and FEMA Form 75-11, Request For Use of NETC Facilities, to the Site Administration Branch, Attention: Special Groups Coordinator.

Collection of Information

Title: Approval and Coordination of Requirements to use the NETC for Extracurricular Training Activities.

Type of Information Collection: Extension of a currently approved collection.

OMB Number: 3067-0219.

Form Numbers: FEMA Form 75-10, Request for Housing Accommodations; FEMA Form 75-11, Request for Use of NETC Facilities

Abstract: The NETC is a FEMA facility which houses the Emergency Management Institute (EMI) and the National Fire Academy (NFA). The NETC provides training and educational programs for Federal, State, and local personnel in hazard mitigation, emergency preparedness, fire prevention and control, disaster response, and long-term disaster recovery. The training is carried out both through a residential program at a central campus facility located in Emmitsburg, Maryland, and through an outreach program which makes courses available at the State and local levels throughout the country. Special groups sponsored by the EMI or NFA may use NETC facilities to conduct activities closely related to and in direct support of the EMI or NFA. Such groups include other Federal departments and agencies, groups chartered by Congress such as the American Red Cross, State and local governments, volunteer groups and national and international associations representing State and local governments. FEMA's policy is to accommodate other training activities on a space available basis at the Emmitsburg, Maryland campus. The data will be used to coordinate extracurricular training activities and to assign housing for all training activities at the NETC, which must be provided by FEMA program offices.

Affected Public: Not for profit institutions, Federal Government, State, local or Tribal government.

Estimated Total Annual Burden Hours.

FEMA forms | No. of respondents (A) | Frequency of response (B) | Hours per response (C) | Annual burden hours (AxBxC)
75-11 | 100 | 100 | .2 | 20
75-10 | 200 | 6 | .7 | 130
Total | 300 | 106 | .9 | 150

Estimated Cost: $1,200 to $1,500 per year.

Comments

Written comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Comments should be received within 60 days of the date of this notice.

ADDRESSES: Interested persons should submit written comments to Muriel B. Anderson, FEMA Information Collections Officer, Federal Emergency Management Agency, 500 C Street, SW., Room 311, Washington, DC 20472. Telephone number (202) 646-2625. FAX number (202) 646-3524 or e:mail muriel.anderson@fema.gov.

FOR FURTHER INFORMATION CONTACT: Contact Darlyn Vestal, Admissions Specialist, Educational and Technology Services Branch, U.S. Fire Administration, (301) 447-1415 for additional information. Contact Ms. Anderson at (202) 646-2625 for copies of the proposed collection of information.

Dated: February 16, 2000.
Reginald Trujillo,
Director, Program Services Division, Operations Support Directorate.

[FR Doc. 00-4679 Filed 2-28-00; 8:45 am]

BILLING CODE 6718-01-P